DEPARTMENT OF COMMERCE

National Oceanic and Atmospheric Administration

[I.D. 100603A]

North Pacific Fishery Management Council; Notice of Public Meeting

AGENCY: National Marine Fisheries Service (NMFS), National Oceanic and Atmospheric Administration (NOAA), Commerce.

ACTION: Meeting of the North Pacific Fishery Management Council's Scallop Plan Team.

SUMMARY: The Scallop Plan Team will meet October 29-30, 2003, at the NMFS Sustainable Fisheries Conference Room in Juneau, AK. You may call in on the conference line at 907-586-7977.

DATES: The meeting will meet on October 29-30, 2003, 9 a.m. to 5 p.m.

ADDRESSES: The meeting will be held at the NMFS, 709 W 9th Avenue, Juneau, AK 99801.

Council address: North Pacific Fishery Management Council, 605 W. 4th Ave., Suite 306, Anchorage, AK 99501-2252.

FOR FURTHER INFORMATION CONTACT: Diana Stram, Council staff, Phone: 907-271-2809.

SUPPLEMENTARY INFORMATION: Agenda - (1) Membership and Officers (2) Draft Terms of Reference for Scallop Plan Team (3) Review Status of Stocks and Stock Assessment and Fishery Evaluation report (4) Discuss updating the Scallop Fishery Management Plan (5) Update on Alaska Board of Fisheries regulation changes from the 2003 meeting (6) New Business.

Although other non-emergency issue not on the agenda may come before the Council for discussion, in accordance with the Magnuson-Stevens Fishery Conservation and Management Act (Magnuson-Stevens Act), those issues may not be the subject of formal action during this meeting. Actions of the Council will be restricted to those issues specifically identified in the agenda and any issues arising after publication of this notice that require emergency action under Section 305(c) of the Magnuson-Stevens Act, provided the public has been informed of the Council's intent to take action to address the emergency.

Special Accommodations

These meetings are physically accessible to people with disabilities. Requests for sign language interpretation or other auxiliary aids should be directed to Gail Bendixen at 907-271-2809 at least 7 working days prior to the meeting date.

Dated: October 06, 2003.
Richard W. Surdi,
Acting Director, Office of Sustainable Fisheries, National Marine Fisheries Service.

[FR Doc. 03-25642 Filed 10-8-03; 8:45 am]

BILLING CODE 3510-22-S